ENVIRONMENTAL PROTECTION AGENCY

[EPA-HQ-AO-2010-EPA-HQ-AO-2010-0739 FRL-9210-4]

Agency Information Collection Activities; Proposed Collection; Comment Request; Regulatory Pilot Projects (Renewal); EPA ICR No. 1755.09; OMB Control No. 2010-0026

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on March 31, 2011. Before submitting the ICR to OMB for review and approval, EPA is soliciting comments on specific aspects of the proposed information collection as described below.

DATES: Comments must be submitted on or before December 6, 2010.

ADDRESSES: Submit your comments, identified by Docket ID No. EPA-HQ-AO-2010-0739 by one of the following methods:

• http://www.regulations.gov: Follow the on-line instructions for submitting comments.

• E-mail: oei.docket@epa.gov.

• Fax: (202) 566-9744.

• Mail: OA Docket, EPA Docket Center, Environmental Protection Agency, Mail Code 28221T, 1200 Pennsylvania Avenue, NW., Washington, DC 20460.

• Hand Delivery: Office of the Administrator Docket in the EPA Docket Center (EPA/DC), EPA West, Room 3334, 1301 Constitution Avenue, NW, Washington, DC.

Such deliveries are only accepted during the Docket's normal hours of operation, and special arrangements should be made for deliveries of boxed information.

Instructions: Direct your comments to Docket ID No. EPA-HQ-AO-2010-0739 EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/dockets.

FOR FURTHER INFORMATION CONTACT: Gerald Filbin, Office of Policy (1807T), Environmental Protection Agency, 1200 Pennsylvania Ave., NW., Washington, DC 20460; telephone number: 202-566-2182; fax number: 202-566-2220; e-mail address: filbin.gerald@epa.gov.

SUPPLEMENTARY INFORMATION:

How can i access the docket and/or submit comments?

EPA has established a public docket for this ICR under Docket ID No. EPA-HQ-AO-2010-0739 which is available for online viewing at http://www.regulations.gov, or in person viewing at the Office of the Administrator Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Office of the Administrator Docket is 202-566-0219.

Use www.regulations.gov to obtain a copy of the draft collection of information, submit or view public comments, access the index listing of the contents of the docket, and to access those documents in the public docket that are available electronically. Once in the system, select “search,” then key in the docket ID number identified in this document.

What information is EPA interested in?

Pursuant to section 3506(c)(2)(A) of the PRA, EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should i consider when i prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected Entities: Entities potentially affected by this action are primarily state environmental agencies that have received EPA State Innovation Grants in the seven (7) competitions that occurred from 2002-2009 that must report to EPA on their performance on those assistance agreements. In some cases this means that these state environmental agencies must gather and report on aspects of environmental performance from multiple regulated facilities participating in funded projects. State Agencies with State innovation Grant Assistance Agreements must report their progress to EPA on a quarterly basis and for the preparation of project final reports. Twenty (20) of the thirty-nine (39) projects funded under the program remain active. These state environmental agencies request performance information from facilities participating in or whose participation is being solicited for pilot projects to test innovation in environmental permitting. Other parties affected by this request may include industrial facilities and state agencies that have been participants in Project XL in circumstances where projects are being completed or terminated and information characterizing the outcomes of those projects is being sought by EPA to close out those individual projects. In addition, state environmental agencies that wish to respond to a request for consultation with EPA on innovative practices that may be pilot tested and evaluated to better address emerging environmental issues (e.g., climate change adaptation) may be affected.

Title: Regulatory Reinvention Pilots (Renewal).

ICR Numbers: EPA ICR No. 1755.09, OMB Control No. 2010-0026.

ICR Status: This ICR is currently scheduled to expire on March 31, 2011. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This is an information collection request renewal that will allow for the continued information collection related to innovative pilot projects conducted under EPA's project XL and State Innovation grant Programs and to allow EPA and state environmental agencies supported under cooperative agreements for these programs to continue their commitments to monitor the results of remaining pilot tests of regulatory innovation initiated under these programs. While both the EPA State Innovation Grant Program and Project XL no longer accept new project proposals or initiate new projects, the renewal of this ICR is important as it will allow the Agency to continue to assess performance outcomes of remaining regulatory innovation piloting projects and to identify the broader applicability of those pilot projects. Both Project XL and the State Innovation Grant Program have stopped accepting new innovation project proposals but states implementing existing innovative regulatory pilot tests in projects funded by a State Innovation Grant are required to report on progress during the operation of a project and to provide a final project report summarizing outcomes and major findings of each project. EPA's policy on performance measurement in assistance agreements is an implementation outcome under the Government Performance and Results Act (GPRA § 1115 (a)(4) and § 1116(c)). EPA's innovation piloting efforts are multi-media in nature and include programs authorized under the full range of authorizing legislation (e.g., the Clean Air Act, Section 103(b)(3) (42 U.S.C. 7403(b)(3)) the Clean Water Act, Section 104(b)(3) (33 U.S.C. 1254(b)(3)); the Solid Waste Disposal Act, Section 8001 (42 U.S.C. 6981); the Toxic Substances Control Act, Section 10 (15 U.S.C. 2609); the Federal Insecticide, Fungicide, and Rodenticide Act, Section 20 (7 U.S.C. 136r); and the Safe Drinking Water Act, Sections 1442 (a) and (c) (42 U.S.C. 1(a) and (c)).

Responses related to the grant program are required to achieve the quarterly and final project reporting stipulated in the grant awards. Responses related to Project XL are voluntary. EPA remains interested in collaborating with states, tribes and localities for the purpose of testing and evaluating innovative practices, both regulatory and voluntary that lead to better environmental results, particularly as they apply to emerging environmental issues. The measurement of results in these pilot tests and the evaluation of success, efficiency, and broader application are key to EPA's interest in producing better environmental results through innovation.

Burden Statement: The annual public reporting and recordkeeping burden for this collection of information is estimated to average 100 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential annual respondents: 20.

Frequency of response: 20 quarterly; 85 annually.

Estimated total average number of responses for each respondent: 4.1.

Estimated total annual burden hours: 4820.

Estimated total annual costs: $367,131. This includes an estimated burden cost of $367,131 and an estimated cost of $0 for capital investment or maintenance and operational costs.

Are there changes in the estimates from the last approval?

There is an increase of 318 hours in the total estimated respondent burden compared with that identified in the ICR currently approved by OMB. This reflects the need to collect information on project performance and outcomes in the form of quarterly reporting and final project reporting for current projects only not addressed in other ICRs.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: September 27, 2010.
Elizabeth A. Shaw,
Director, Office of Strategic Environmental Management.

[FR Doc. 2010-24926 Filed 10-4-10; 8:45 am]

BILLING CODE 6560-50-P